NUCLEAR REGULATORY COMMISSION

[Docket Nos. 50-272, 50-311, 50-354; NRC-2009-0390 and NRC-2009-0391]

PSEG Nuclear, LLC, Hope Creek Generating Station and Salem Nuclear Generating Station, Units 1 and 2; Notice of Availability of the Final Supplement 45 to the Generic Environmental Impact Statement for License Renewal of Nuclear Plants

Notice is hereby given that the U.S. Nuclear Regulatory Commission (NRC) has published a final plant-specific supplement to the Generic Environmental Impact Statement for License Renewal of Nuclear Plants (GEIS), NUREG-1437, regarding the renewal of operating licenses NPF-57, DPR-70, and DPR-75 for an additional 20 years of operation for the Hope Creek Generating Station (HCGS) and Salem Nuclear Generating Station, Units 1 and 2 (Salem). Possible alternatives to the proposed action (license renewal) include no action and reasonable alternative energy sources.

As discussed in Section 9.4 of the final supplement, the staff determined that the adverse environmental impacts of license renewal for HCGS and Salem are not so great that preserving the option of license renewal for energy planning decision makers would be unreasonable. This recommendation is based on: (1) The analysis and findings in the GEIS; (2) information provided in the environmental report (ER) submitted by PSEG Nuclear, LLC; (3) consultation with Federal, State, and local agencies; (4) a review of pertinent documents and reports; and (5) consideration of public comments received during scoping and on the draft SEIS.

The final Supplement 45 to the GEIS is publicly available at the NRC Public Document Room (PDR), located at One White Flint North, 11555 Rockville Pike, Rockville, Maryland 20852, or from the NRC's Agencywide Documents Access and Management System (ADAMS). The ADAMS Public Electronic Reading Room is accessible at http://www.nrc.gov/reading-rm/adams.html. The accession number for the final Supplement 45 to the GEIS is ML11089A021. Persons who do not have access to ADAMS or who encounter problems in accessing the documents located in ADAMS, should contact the NRC's PDR reference staff by telephone at (800) 397-4209 or (301) 415-4737, or by e-mail at pdr@nrc.gov. In addition, the Salem Free Library, 112 West Broadway, Salem, NJ 08079, has agreed to make the final supplement available for public inspection.

FOR FURTHER INFORMATION CONTACT: Ms. Leslie Perkins, Project Branch 1, Division of License Renewal, Office of Nuclear Reactor Regulation, U.S. Nuclear Regulatory Commission, Mail Stop O-11F1, Washington, DC 20555-0001. Ms. Perkins may be contacted by telephone at (800) 368-5642, extension 2375, or via e-mail at leslie.perkins@nrc.gov.

Dated at Rockville, Maryland, this 30th day of March 2011.
For the Nuclear Regulatory Commission.
Bo Pham,
Chief, Project Branch 1, Division of License Renewal, Office of Nuclear Reactor Regulation.

[FR Doc. 2011-8190 Filed 4-5-11; 8:45 am]

BILLING CODE 7590-01-P